DEPARTMENT OF JUSTICE

[OMB Number 1110-New]

Agency Information Collection Activities; Proposed eCollection eComments Requested; New Collection

AGENCY: Federal Bureau of Investigation (FBI), Department of Justice.

ACTION: 30-Day Notice.

SUMMARY: The Department of Justice, Federal Bureau of Investigation, is submitting the following information collection request to the Office of Management and Budget (OMB) for review and approval in accordance with the Paperwork Reduction Act of 1995.

DATES: The Department of Justice encourages public comment and will accept input until November 18, 2019.

FOR FURTHER INFORMATION CONTACT: If you have additional comments especially on the estimated public burden or associated response time, suggestions, or need a copy of the proposed information collection instrument with instructions or additional information, please contact Tonya Odom, Federal Bureau of Investigation, 935 Pennsylvania Ave NW, Washington, DC 20535, 202-324-3000, atodom@fbi.gov. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

➢ Evaluate whether the proposed collection of information is necessary for the proper performance of the functions of the FBI, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of this Information Collection:

1. Type of Information Collection: New Collection.

2. The Title of the Form/Collection: FBI Special Agent Application Process Review Form.

3. The agency form number, if any, and the applicable component of the Department sponsoring the collection: “There is no agency form number for this collection.” The applicable component within the Department of Justice is the Federal Bureau of Investigation (FBI).

4. Affected public who will be asked or required to respond, as well as a brief abstract: Individuals; Anyone who has filled out any part of the FBI Special Agent Application in the previous three years will be asked to complete a brief voluntary survey recalling their experience and preparation tactics for the application process. This information is being collected by the Federal Bureau of Investigation for the purpose of improving the ease of the application process, eliminating any systematic barriers to success for applicants, and better understanding how to recruit and retain qualified applicants.

5. An estimate of the total number of respondents and the amount of time estimated for an average respondent to respond: We estimate roughly 40,000 individuals have applied to the Special Agent position at the FBI in the previous 3 years, we will solicit this entire population to participate in the voluntary survey though it is unlikely all 40,000 WILL respond. The survey will take approximately 10 minutes to complete.

6. An estimate of the total public burden (in hours) associated with the collection: 6,667 total hours of public burden, 10 minutes per survey for 40,000 respondents.

If additional information is required contact: Melody Braswell, Department Clearance Officer, United States Department of Justice, Justice Management Division, Policy and Planning Staff, Two Constitution Square, 145 N Street NE, 3E.405A, Washington, DC 20530.

Dated: October 11, 2019.
Melody Braswell,
Department Clearance Officer for PRA, U.S. Department of Justice.

[FR Doc. 2019-22631 Filed 10-16-19; 8:45 am]

BILLING CODE 4410-02-P